DEPARTMENT OF THE INTERIOR

National Park Service

[NPS-WASO-NRNHL-11322; 2200-3200-665]

National Register of Historic Places; Notification of Pending Nominations and Related Actions

Nominations for the following properties being considered for listing or related actions in the National Register were received by the National Park Service before September 15, 2012. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 30, 2012. Before including your address, phone number, email address, or other personal identifying information in your comment, you should be aware that your entire comment—including your personal identifying information—may be made publicly available at any time. While you can ask us in your comment to withhold your personal identifying information from public review, we cannot guarantee that we will be able to do so.

Dated: September 20, 2012.
Alexandra Lord,
Acting Chief, National Register of Historic Places/National Historic Landmarks Program.

FLORIDA

Hillsborough County

Temple Terrace Golf Course,

200 Inverness Ave.,

Temple Terrace, 12000888

IOWA

Hardin County

Washington Avenue Commercial Historic District,

401-714 Washington Ave., 300 blk. Stephens, & 200 & 300 blks. Oak Sts.,

Iowa Falls, 12000889

Linn County

Iowa Wind Mill and Pump Company Office and Warehouse,

(Cedar Rapids, Iowa MPS)

42 7th Ave. SW.,

Cedar Rapids, 12000890

MAINE

Androscoggin County

Lamb Block,

10 Depot St.,

Livermore Falls, 12000891

Hancock County

Free Baptist Church of Great Pond, The,

1231 Great Pond Rd.,

Great Pond, 12000892

Kennebec County

Androscoggin Yacht Club,

22 Lake St.,

Wayne, 12000893

Somerset County

Gerald Hotel,

151-157 Main St.,

Fairfield, 12000894

MISSOURI

Johnson County

Griebel, Lewis and Sophie, House,

(Warrensburg, Missouri MPS)

300 W. Gay St.,

Warrensburg, 12000895

NEW MEXICO

Bernalillo County

Albuquerque Veterans Administration Hospital Historic District (Boundary Decrease),

(United States Second Generation Veterans Hospitals MPS)

1501 San Pedro SE.,

Albuquerque, 12000896

OHIO

Cuyahoga County

Euclid Heights Historic District,

Mayfield, Coventry, Cedar, Overlook,

Cleveland Heights, 12000897

Wood County

Toledo, Lake Erie and Western Railroad Bridge,

Over Maumee R.,

Grand Rapids, 12000898

OREGON

Jackson County

Washington Elementary School,

610 S. Peach St.,

Medford, 12000899

Multnomah County

Rose City Golf Clubhouse,

2200 NE 71st Ave.,

Portland, 12000900

Sengstake Building,

310 NW Broadway,

Portland, 12000901

PENNSYLVANIA

York County

Pierceville Run Agricultural Historic District,

Roughly bounded by Fair School, Myers, Meckley, Rockville, & Narrow Gauge Rds., & Pierceville Run, Glen Rock, 12000902

VIRGINIA

Appomattox County

Holliday Lake State Park,

(Virginia State Parks built by New Deal Programs MPS)

2759 State Park Rd.,

Appomattox, 12000903

Cumberland County

Bear Creek Lake State Park,

(Virginia State Parks built by New Deal Programs MPS)

22 Bear Creek Lake Rd.,

Cumberland, 12000904

Hampton Independent city

Old Wythe Historic District,

Roughly bounded by Hanover St., Pear Ave., Hampton, & Kecoughtan Rds.,

Hampton (Independent City), 12000905

Prince Edward County

Twin Lakes State Park,

(Virginia State Parks built by New Deal Programs MPS)

788 Twin Lakes Rd.,

Green Bay, 12000906

A request to move has been made for the following resource:

OREGON

Multnomah County

Spokane, Portland and Seattle Railway Steam Locomotive,

Roundhouse, UPRR's Brooklyn Yard (SE Portland),

Portland, 05001557

A request for removal has been made for the following resources:

ARKANSAS

White County

Herring Building,

601—603 E. 1st. St.,

McRae, 05001083

HAWAII

Honolulu County

Lishman Building,

Makiki Park, Keeaumoku St.,

Honolulu, 78001023

[FR Doc. 2012-25185 Filed 10-12-12; 8:45 am]

BILLING CODE 4312-51-P